FEDERAL COMMUNICATIONS COMMISSION

Sunshine Act Meeting

July 13, 2006.

Deletion of Agenda Item From July 13, 2006, Open Meeting

The following item has been deleted from the list of Agenda items scheduled for consideration at the Thursday, July 13, 2006, Open Meeting and previously listed in the Commission's Notice of Thursday, July 6, 2006.

4 | Media | Title: Digital Audio Broadcasting Systems and Their Impact on the Terrestrial Radio Broadcast Service.
|  | Summary: The Commission will consider a Second Report and Order, First Order on Reconsideration and Second Further Notice of Proposed Rulemaking regarding digital audio broadcasting (MM Docket No. 99-325).

Federal Communications Commission.
Marlene H. Dortch,
Secretary.

[FR Doc. 06-6400 Filed 7-18-06; 1:11 pm]

BILLING CODE 6712-01-P